DEPARTMENT OF HOMELAND SECURITY

Federal Emergency Management Agency

44 CFR Part 64

[Docket ID FEMA-2011-0002; Internal Agency Docket No. FEMA-8167]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New York:
Bloomingburg, Village of, Sullivan County | 361473 | November 28, 1975, Emerg; April 17, 1985, Reg; February 18, 2011, Susp. | Feb. 18, 2011 | Feb. 18, 2011.
Fallsburg, Town of, Sullivan County | 360819 | October 29, 1974, Emerg; March 9, 1984, Reg; February 18, 2011, Susp. | ......do* | Do.
Fremont, Town of, Sullivan County | 360821 | April 11, 1975, Emerg; May 25, 1984, Reg; February 18, 2011, Susp. | ......do | Do.
Highland, Town of, Sullivan County | 360822 | August 30, 1974, Emerg; March 23, 1984, Reg; February 18, 2011, Susp. | ......do | Do.
Jeffersonville, Village of, Sullivan County | 361474 | June 19, 1975, Emerg; March 23, 1984, Reg; February 18, 2011, Susp. | ......do | Do.
Lumberland, Town of, Sullivan County | 360825 | April 21, 1975, Emerg; February 27, 1984, Reg; February 18, 2011, Susp. | ......do | Do.
Mamakating, Town of, Sullivan County | 360826 | October 6, 1976, Emerg; September 24, 1984, Reg; February 18, 2011, Susp. | ......do | Do.
Monticello, Village of, Sullivan County | 361613 | May 10, 1984, Emerg; May 10, 1984, Reg; February 18, 2011, Susp. | ......do | Do.
Neversink, Town of, Sullivan County | 360828 | July 7, 1975, Emerg; May 25, 1984, Reg; February 18, 2011, Susp. | ......do | Do.
Tusten, Town of, Sullivan County | 360831 | May 13, 1975, Emerg; August 27, 1982, Reg; February 18, 2011, Susp. | ......do | Do.
Wurtsboro, Village of, Sullivan County | 361476 | December 23, 1975, Emerg; May 25, 1984, Reg; February 18, 2011, Susp. | ......do | Do.
Region III
Pennsylvania:
Ayr, Township of, Fulton County | 422428 | March 9, 1977, Emerg; July 2, 1982, Reg; February 18, 2011, Susp. | ......do | Do.
Belfast, Township of, Fulton County | 421659 | November 15, 1984, Emerg; August 5, 1985, Reg; February 18, 2011, Susp. | ......do | Do.
Bethel, Township of, Fulton County | 422429 | June 11, 1976, Emerg; June 11, 1982, Reg; February 18, 2011, Susp. | ......do | Do.
Brush Creek, Township of, Fulton County | 421660 | July 11, 1984, Emerg; October 15, 1985, Reg; February 18, 2011, Susp. | ......do | Do.
Dublin, Township of, Fulton County | 421661 | August 5, 1975, Emerg; September 1, 1986, Reg; February 18, 2011, Susp. | ......do | Do.
Licking Creek, City of, Fulton County | 421662 | February 3, 1977, Emerg; May 1, 1986, Reg; February 18, 2011, Susp. | ......do | Do.
McConnellsburgh, Borough of, Fulton County | 422701 | April 7, 1995, Emerg; February 9, 2001, Reg; February 18, 2011, Susp. | ......do | Do.
Taylor, Township of, Fulton County | 421663 | October 14, 1975, Emerg; September 1, 1986, Reg; February 18, 2011, Susp. | ......do | Do.
Thompson, Township of, Fulton County | 421664 | December 23, 1977, Emerg; June 1, 1986, Reg; February 18, 2011, Susp. | ......do | Do.
Todd, Township of, Fulton County | 421665 | December 11, 1975, Emerg; September 1, 1986, Reg; February 18, 2011, Susp. | ......do | Do.
Union, Township of, Fulton County | 422430 | December 19, 1977, Emerg; February 25, 1983, Reg; February 18, 2011, Susp. | ......do | Do.
Wells, Township of, Fulton County | 421666 | December 4, 1975, Emerg; May 1, 1986, Reg; February 18, 2011, Susp. | ......do | Do.
Virginia:
Appalachia, Town of, Wise County | 510319 | March 27, 1975, Emerg; September 17, 1980, Reg; February 18, 2011, Susp. | ......do | Do.
Big Stone Gap, Town of, Wise County | 515521 | June 19, 1970, Emerg; December 11, 1970, Reg; February 18, 2011, Susp. | ......do | Do.
Bluefield, Town of, Tazewell County | 510161 | July 30, 1973, Emerg; July 17, 1978, Reg; February 18, 2011, Susp. | ......do | Do.
Cedar Bluff, Town of, Tazewell County | 510162 | November 29, 1974, Emerg; April 4, 1983, Reg; February 18, 2011, Susp. | ......do | Do.
Coeburn, Town of, Wise County | 510176 | March 6, 1975, Emerg; July 2, 1980, Reg; February 18, 2011, Susp. | ......do | Do.
Jonesville, Town of, Lee County | 510086 | July 2, 1975, Emerg; October 30, 1981, Reg; February 18, 2011, Susp. | ......do | Do.
Lee County, Unincorporated Areas | 510085 | January 23, 1975, Emerg; March 4, 1987, Reg; February 18, 2011, Susp. | ......do | Do.
Norton, City of, Independent City | 510108 | March 17, 1972, Emerg; February 16, 1977, Reg; February 18, 2011, Susp. | ......do | Do.
Pennington Gap, Town of, Lee County | 510087 | June 17, 1975, Emerg; September 4, 1986, Reg; February 18, 2011, Susp. | ......do | Do.
Pocahontas, Town of, Tazewell County | 510337 | September 14, 1983, Emerg; September 14, 1983, Reg; February 18, 2011, Susp. | ......do | Do.
Pound, Town of, Wise County | 510177 | January 24, 1975, Emerg; March 2, 1981, Reg; February 18, 2011, Susp. | ......do | Do.
Richlands, Town of, Tazewell County | 510163 | December 5, 1974, Emerg; April 4, 1983, Reg; February 18, 2011, Susp. | ......do | Do.
St. Charles, Town of, Lee County | 510088 | April 21, 1975, Emerg; September 4, 1986, Reg; February 18, 2011, Susp. | ......do | Do.
St. Paul, Town of, Russell and Wise Counties | 515530 | June 19, 1970, Emerg; December 4, 1970, Reg; February 18, 2011, Susp. | ......do | Do.
Tazewell, Town of, Tazewell County | 510164 | October 9, 1974, Emerg; August 15, 1983, Reg; February 18, 2011, Susp. | ......do | Do.
Tazewell County, Unincorporated Areas | 510160 | May 13, 1975, Emerg; September 1, 1983, Reg; February 18, 2011, Susp. | ......do | Do.
Wise, Town of, Wise County | 510179 | March 3, 1975, Emerg; April 15, 1981, Reg; February 18, 2011, Susp. | ......do | Do.
Wise County, Unincorporated Areas | 510174 | October 30, 1974, Emerg; August 17, 1981, Reg; February 18, 2011, Susp. | ......do | Do.
Region IV
Alabama:
Chambers County, Unincorporated Areas | 010026 | July 29, 1975, Emerg; July 4, 1988, Reg; February 18, 2011, Susp. | ......do | Do.
Lafayette, City of, Chambers County | 010028 | September 30, 1975, Emerg; September 18, 1985, Reg; February 18, 2011, Susp. | ......do | Do.
Lanett, City of, Chambers County | 010029 | May 13, 1975, Emerg; July 4, 1988, Reg; February 18, 2011, Susp. | ......do | Do.
Valley, City of, Chambers County | 010424 | September 15, 1998, Emerg; February 18, 2011, Reg; February 18, 2011, Susp. | ......do | Do.
Mississippi:
Columbus, City of, Lowndes County | 280108 | March 3, 1972, Emerg; July 13, 1976, Reg; February 18, 2011, Susp. | ......do | Do.
Lowndes County, Unincorporated Areas | 280193 | January 14, 1974, Emerg; November 15, 1979, Reg; February 18, 2011, Susp. | ......do | Do.
Region V
Illinois:
Albany, Village of, Whiteside County | 170688 | April 1, 1974, Emerg; June 15, 1981, Reg; February 18, 2011, Susp. | ......do | Do.
Belvidere, City of, Boone County | 170008 | June 26, 1974, Emerg; January 6, 1982, Reg; February 18, 2011, Susp. | ......do | Do.
Boone County, Unincorporated Areas | 170807 | May 1, 1974, Emerg; November 17, 1982, Reg; February 18, 2011, Susp. | ......do | Do.
Cherry Valley, Village of, Boone and Winnebago Counties | 170721 | February 18, 1975, Emerg; March 16, 1981, Reg; February 18, 2011, Susp. | ......do | Do.
Elkhart, Village of, Logan County | 171010 | February 12, 1982, Emerg; September 4, 1986, Reg; February 18, 2011, Susp. | ......do | Do.
Erie, Village of, Whiteside County | 170689 | February 11, 1974, Emerg; February 15, 1985, Reg; February 18, 2011, Susp. | ......do | Do.
Fulton, City of, Whiteside County | 170690 | July 2, 1975, Emerg; May 17, 1982, Reg; February 18, 2011, Susp. | ......do | Do.
Lincoln, City of, Logan County | 170428 | June 16, 1975, Emerg; October 16, 1979, Reg; February 18, 2011, Susp. | ......do | Do.
Loves Park, City of, Boone and Winnebago Counties | 170722 | February 23, 1973, Emerg; October 17, 1978, Reg; February 18, 2011, Susp. | ......do | Do.
Lyndon, Village of, Whiteside County | 170917 | March 15, 1979, Emerg; March 1, 1984, Reg; February 18, 2011, Susp. | ......do | Do.
Morrison, City of, Whiteside County | 170691 | June 10, 1975, Emerg; September 30, 1988, Reg; February 18, 2011, Susp. | ......do | Do.
Prophetstown, City of, Whiteside County | 170692 | April 8, 1974, Emerg; August 1, 1986, Reg; February 18, 2011, Susp. | ......do | Do.
Rock Falls, City of, Whiteside County | 170694 | May 1, 1974, Emerg; September 1, 1986, Reg; February 18, 2011, Susp. | ......do | Do.
Sterling, City of, Whiteside County | 170693 | April 2, 1975, Emerg; October 5, 1984, Reg; February 18, 2011, Susp. | ......do | Do.
Whiteside County, Unincorporated Areas | 170687 | March 16, 1973, Emerg; February 19, 1986, Reg; February 18, 2011, Susp. | ......do | Do.
Indiana:
Seelyville, Town of, Vigo County | 180310 | November 24, 1975, Emerg; May 25, 1978, Reg; February 18, 2011, Susp. | ......do | Do.
Terre Haute, City of, Vigo County | 180264 | January 23, 1974, Emerg; December 1, 1981, Reg; February 18, 2011, Susp. | ......do | Do.
Vigo County, Unincorporated Areas | 180263 | June 28, 1974, Emerg; November 2, 1983, Reg; February 18, 2011, Susp. | ......do | Do.
Region VI
Louisiana:
Calcasieu Parish, Unincorporated Areas | 220037 | December 31, 1971, Emerg; September 29, 1978, Reg; February 18, 2011, Susp. | ......do | Do.
De Quincy, City of, Calcasieu Parish | 220038 | August 29, 1973, Emerg; April 2, 1979, Reg; February 18, 2011, Susp. | ......do | Do.
Vinton, Town of, Calcasieu Parish | 220042 | February 6, 1975, Emerg; July 16, 1981, Reg; February 18, 2011, Susp. | ......do | Do.
Texas:
Bailey, City of, Fannin County | 480808 | November 29, 1991, Emerg; July 1, 1992, Reg; February 18, 2011, Susp. | ......do | Do.
Bonham, City of, Fannin County | 480222 | January 3, 1975, Emerg; May 5, 1981, Reg; February 18, 2011, Susp. | ......do | Do.
Fannin County, Unincorporated Areas | 480807 | September 9, 2004, Emerg; January 4, 2005, Reg; February 18, 2011, Susp. | ......do | Do.
Hale County, Unincorporated Areas | 481223 | July 26, 1985, Emerg; February 1, 1988, Reg; February 18, 2011, Susp. | ......do | Do.
Leonard, City of, Fannin County | 480812 | August 15, 2005, Emerg; February 11, 2009, Reg; February 18, 2011, Susp. | ......do | Do.
Plainview, City of, Hale County | 480275 | September 7, 1973, Emerg; March 16, 1989, Reg; February 18, 2011, Susp. | ......do | Do.
Whitewright, Town of, Fannin and Grayson Counties | 480839 | December 18, 1981, Emerg; June 19, 1985, Reg; February 18, 2011, Susp. | ......do | Do.
Windom, Town of, Fannin County | 481165 | January 27, 2010, Emerg; February 18, 2011, Reg; February 18, 2011, Susp. | ......do | Do.
Region VII
Iowa:
Bettendorf, City of, Scott County | 190240 | February 4, 1972, Emerg; June 1, 1978, Reg; February 18, 2011, Susp. | ......do | Do.
Buffalo, City of, Scott County | 190241 | September 26, 1974, Emerg; September 17, 1980, Reg; February 18, 2011, Susp. | ......do | Do.
Davenport, City of, Scott County | 190242 | July 25, 1973, Emerg; March 1, 1978, Reg; February 18, 2011, Susp. | ......do | Do.
Donahue, City of, Scott County | 190505 | February 10, 1988, Emerg; May 1, 1990, Reg; February 18, 2011, Susp. | ......do | Do.
Panorama Park, City of, Scott County | 190506 | N/A, Emerg; December 17, 1990, Reg; February 18, 2011, Susp. | ......do | Do.
Riverdale, City of, Scott County | 190245 | July 7, 1975, Emerg; January 5, 1978, Reg; February 18, 2011, Susp. | ......do | Do.
Scott County, Unincorporated Areas | 190239 | December 30, 1971, Emerg; June 1, 1977, Reg; February 18, 2011, Susp. | ......do | Do.
Walcott, City of, Muscatine and Scott Counties | 190675 | July 29, 1998, Emerg; November 7, 2001, Reg; February 18, 2011, Susp. | ......do | Do.
Nebraska:
Bennet, Village of, Lancaster County | 310251 | August 3, 1976, Emerg; March 2, 1981, Reg; February 18, 2011, Susp. | ......do | Do.
Denton, Village of, Lancaster County | 310498 | July 9, 1998, Emerg; September 21, 2001, Reg; February 18, 2011, Susp. | ......do | Do.
Firth, Village of, Lancaster County | 310135 | July 22, 1975, Emerg; April 15, 1981, Reg; February 18, 2011, Susp. | ......do | Do.
Hickman, City of, Lancaster County | 310136 | May 27, 1975, Emerg; February 3, 1982, Reg; February 18, 2011, Susp. | ......do | Do.
Lancaster County, Unincorporated Areas | 310134 | February 16, 1979, Emerg; February 3, 1982, Reg; February 18, 2011, Susp. | ......do | Do.
Lincoln, City of, Lancaster County | 315273 | April 17, 1970, Emerg; April 23, 1971, Reg; February 18, 2011, Susp. | ......do | Do.
Malcolm, Village of, Lancaster County | 310500 | N/A, Emerg; March 30, 2009, Reg; February 18, 2011, Susp. | ......do | Do.
Raymond, Village of, Lancaster County | 310138 | April 18, 1985, Emerg; April 18, 1985, Reg; February 18, 2011, Susp. | ......do | Do.
Sprague, Village of, Lancaster County | 310495 | October 18, 1996, Emerg; September 21, 2001, Reg; February 18, 2011, Susp. | ......do | Do.
Talmage, Village of, Otoe County | 310167 | December 23, 1974, Emerg; June 1, 1982, Reg; February 18, 2011, Susp. | ......do | Do.
Waverly, City of, Lancaster County | 310140 | June 13, 1975, Emerg; April 15, 1982, Reg; February 18, 2011, Susp. | ......do | Do.
Region IX
California: Wheatland, City of, Yuba County | 060460 | February 10, 1976, Emerg; September 29, 1986, Reg; February 18, 2011, Susp. | ......do | Do.
......do* = Ditto.
Code for reading third column: Emerg.—Emergency; Reg.—Regular; Susp.—Suspension.

Dated: January 21, 2011.
Sandra K. Knight,
Deputy Federal Insurance and Mitigation Administrator, Mitigation

[FR Doc. 2011-1977 Filed 1-28-11; 8:45 am]

BILLING CODE 9110-12-P